ENVIRONMENTAL PROTECTION AGENCY

[FRL-9974-33-OARM]

National and Governmental Advisory Committees

AGENCY: Environmental Protection Agency (EPA).

ACTION: Notice of Federal Advisory Committee meeting.

SUMMARY: Under the Federal Advisory Committee Act, EPA gives notice of a public meeting of the he National Advisory Committee (NAC) and the Governmental Advisory Committee (GAC). The NAC and GAC provide advice to the EPA Administrator on a broad range of environmental policy, technology, and management issues. NAC/GAC members represent academia, business/industry, non-governmental organizations, and state, local and tribal governments. The purpose of the meeting is for the NAC/GAC to provide advice on trade and environment issues related to the North American Agreement on Environmental Cooperation. A copy of the meeting agenda will be posted at https://www.epa.gov/faca/nac-gac.

DATES: The NAC/GAC will hold a public meeting on Thursday, April 26, 2018 from 9:00 a.m. to 5:30 p.m., (EST) and Friday, April 27, 2018 from 9:00 a.m. until 3:00 p.m., (EST).

ADDRESSES: The meeting will be held at the EPA Headquarters, William Jefferson Clinton South Building, Room 6045, 1201 Constitution Avenue NW, Washington, DC 20004.

FOR FURTHER INFORMATION CONTACT: Oscar Carrillo, Designated Federal Officer, carrillo.oscar@epa.gov, (202) 564-0347, U.S. EPA, Office of Resources, Operations and Management; Federal Advisory Committee Management Division (MC1601M), 1200 Pennsylvania Avenue NW, Washington, DC 20460.

SUPPLEMENTARY INFORMATION: Requests to make oral comments or to provide written comments to NAC/GAC should be sent to Oscar Carrillo at carrillo.oscar@epa.gov by April 19th. The meeting is open to the public, on a first-come, first-served basis. Members of the public wishing to participate in the meeting should contact Oscar Carrillo via email or by calling (202) 564-0347 no later than April 19th.

Meeting Access: Information regarding accessibility and/or accommodations for individuals with disabilities should be directed to Oscar Carrillo at the email address or phone number listed above. To ensure adequate time for processing, please make requests for accommodations at least 10 days prior to the meeting.

Dated: January 30, 2018.
Oscar Carrillo,
Designated Federal Officer.

[FR Doc. 2018-02814 Filed 2-9-18; 8:45 am]

BILLING CODE 6560-50-P